DEPARTMENT OF VETERANS AFFAIRS

[OMB Control No. 2900—New (VA Form 0857c)]

Agency Information Collection (Reasonable Accommodation) Activities Under OMB Review

AGENCY: Office of Human Resources and Administration, Department of Veterans Affairs.

ACTION: Notice.

SUMMARY: In compliance with the Paperwork Reduction Act (PRA) of 1995 (44 U.S.C. 3501-21), this notice announces that the Office of Human Resources and Administration (OHR&A), Department of Veterans Affairs, will submit the collection of information abstracted below to the Office of Management and Budget (OMB) for review and comment. The PRA submission describes the nature of the information collection and its expected cost and burden; it includes the actual data collection instrument.

DATES: Comments must be submitted on or before May 19, 2010.

ADDRESSES: Submit written comments on the collection of information through http://www.Regulations.gov or to VA's OMB Desk Officer, OMB Human Resources and Housing Branch, New Executive Office Building, Room 10235, Washington, DC 20503 (202) 395-7316. Please refer to “OMB Control No. 2900—New (VA Form 0857c)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@.va.gov. Please refer to “OMB Control No. 2900—New (VA Form 0857c)”.

SUPPLEMENTARY INFORMATION: Titles:

a. Request for Reasonable Accommodation, VA Form 0857c.

b. Authorization for Limited Release of Medical Information, VA Form 0857e.

OMB Control Number: 2900—New (VA Form 0857c).

Type of Review: Existing collection in use without an OMB control number.

Abstract: Applicants with a disability who are seeking a position at VA complete VA Form 0857c to request reasonable accommodation such as an interpreter or adaptive equipment during the application and interview process. In order to substantiate their claim for reasonable accommodation, applicants must complete VA Form 0857e to authorize their provider to release medical information to VA. The data collected will be used to determine the applicant's entitlement to reasonable accommodation.

An agency may not conduct or sponsor, and a person is not required to respond to a collection of information unless it displays a currently valid OMB control number. The Federal Register Notice with a 60-day comment period soliciting comments on this collection of information was published on February 10, 2010, at page 6792.

Affected Public: Individuals or households.

Estimated Annual Burden: 18 hours.

Estimated Average Burden per Respondent: 30 minutes.

Frequency of Response: One-time.

Estimated Number of Respondents: 35.

Dated: April 13, 2010.
By direction of the Secretary.
Denise McLamb,
Enterprise Records Service.

[FR Doc. 2010-8803 Filed 4-16-10; 8:45 am]

BILLING CODE 8320-01-P